FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 12, 2011.

A. Federal Reserve Bank of Dallas (E. Ann Worthy, Vice President) 2200 North Pearl Street, Dallas, Texas 75201-2272:

1. Brian A. Collins and Gina L. Collins, both of Fort Worth, Texas; to acquire voting shares of First Bells Bankshares, Inc., and indirectly acquire voting shares of The First National Bank of Bells/Savoy, both in Bells, Texas.

Board of Governors of the Federal Reserve System, August 23, 2011.
Robert deV. Frierson,
Deputy Secretary of the Board.

[FR Doc. 2011-21892 Filed 8-25-11; 8:45 am]

BILLING CODE 6210-01-P